DEPARTMENT OF HOUSING AND URBAN DEVELOPMENT

[Docket No. FR-4971-N-26]

Notice of Submission of Proposed Information Collection to OMB; Application for Relocation Assistance

AGENCY: Office of the Chief Information Officer, HUD.

ACTION: Notice.

SUMMARY: The proposed information collection requirement described below has been submitted to the Office of Management and Budget (OMB) for review, as required by the Paperwork Reduction Act. The Department is soliciting public comments on the subject proposal.

Application for displacement/relocation assistance for person (families, individuals, businesses, nonprofit organization and farms) displaced by certain HUD programs. Periodically, HUD reviews a random sample of the Agency files to assure that persons did receive the relocation payments to which they are entitled. This information collection incorporates revised, government-wide regulations.

DATES: Comments Due Date: June 22, 2005.

ADDRESSES: Interested persons are invited to submit comments regarding this proposal. Comments should refer to the proposal by name and/or OMB approval Number (2506-0016) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms. Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Application for Relocation Assistance.

OMB Approval Number: 2506-0016.

Form Numbers: HUD-40054, HUD-40055, HUD-40056, HUD-40057, HUD-40058, HUD-40061, HUD-40072.

Description Of The Need For The Information And Its Proposed Use: Application for displacement/relocation assistance for person (families, individuals, businesses, nonprofit organization and farms) displaced by certain HUD programs. Periodically, HUD reviews a random sample of housing agency files to assure that persons did receive the relocation payments to which they are entitled.

Revised government-wide URA regulations were published by the Department of Transportation on January 4, 2005 (effective February 3, 2005). Changes in these regulations which will impact on HUD forms are: Including the cost of professional home inspections in replacement housing payments for homeowners (24.401(e)(4)), and implementing the use of HUD low income limits to determine eligibility for URA benefits applicable to low income persons (24.402(b)(2)). Only the HUD-40054 and 40058 will be affected by these changes and will be revised to conform to the new regulations and improve the flow of the form. The HUD-40055, 40056, and 40057 will be revised to more closely track the existing regulations and improve the flow of the forms. A minor change is being made to the HUD-40061 to eliminate the requirement that the agency make adjustments to the asking price for a property to reflect an anticipated sale price (this requirement was eliminated in the new rule). No changes are being made in the HUD-40072.

Frequency of Submission: Recordkeeping.

| Number of respondents | Annual responses | × | Hours per response | = | Burden hours
Reporting Burden | 12,800 | 1 |  | 8 |  | 31,000

Total Estimated Burden Hours: 31,000.

Status: Revision of a currently approved collection.

Authority: Section 3507 of the Paperwork Reduction Act of 1995, 44 U.S.C. 35, as amended.

Dated: May 16, 2005.
Wayne Eddins,
Departmental Paperwork Reduction Act Officer, Office of the Chief Information Officer.

[FR Doc. E5-2561 Filed 5-20-05; 8:45 am]

BILLING CODE 4210-27-P